DEPARTMENT OF DEFENSE

Department of the Army

[Docket ID: USA-2016-HQ-0004]

Proposed Collection; Comment Request

AGENCY: PEO Aviation, PM Aviation Systems, DoD.

ACTION: Notice.

SUMMARY: In compliance with the Paperwork Reduction Act of 1995, the Office of the Assistant Secretary of Defense for the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army PEO Aviation, Product Director Aviation Networks and Mission Planning (SFAE-AV-AS-ANMP) ATTN: George C. Goodman Jr. Sparkman Center, Building 5309, Redstone Arsenal, Alabama 35898, Phone (256) 842-4995.

SUPPLEMENTARY INFORMATION: Title; Associated Form; and OMB Number: Individual Flight Record and Flight Certificate-Army, DA Form 759 series; Commanders Task List, DA Form 7120-R series; Crew Member Training Record, DA Form 7122-R; Crew Member Grade Slip, DA Form 4507-R series; Certificate For Performance of Hazardous Duty, DA Form 4730; Medical Recommendation For Flying or Special Operational Duty, DD Form 2992; Army Aviator's Flight Record, DA Form 2408-12; Technical Report of U.S. Army Aircraft Accident, DA Form 2397-8; Air Traffic Services (ATS); Individual Air Traffic Control Training and Proficiency Record, DA Form 3479-R and associated forms, OMB Number 0720-XXXX.

Needs and Uses: The information collection requirement is necessary to obtain and retain flying experience, qualifications and training data of each aviator, crew member, Unmanned Aircraft System (UAS) operator, flight surgeon and aeromedical physician assistants in aviation service; and to monitor and manage individual contractor flight and ground personnel records. Leadership uses CAFRS to determine proficiency of Air Traffic Controllers and Air Traffic Control Maintenance Technicians and the reliability of the Air Traffic Control system operations within the Department of the Army. CAFRS is a decision support system for automated mission planning, risk assessment and risk mitigation that supports Mission Command functions within Aviation units. CAFRS supports the Aviation Commander's decision making process required to complete the Aviation Risk Assessment Worksheet (RAW) that provides the assessment tools to match personnel qualifications, operations tempo to aircraft type, and mission needs. The CAFRS application, a sub-system of the Aviation Mission Planning System (AMPS), provides aircrew member flight hours, aircraft currency, qualification and training history in order to accomplish effective risk assessment/risk mitigation throughout the Aviation Mission Planning Process.

Affected Public: Individuals or Households.

Annual Burden Hours: 111.

Number of Respondents: 1,765.

Responses per Respondent: 1.5.

Annual Responses: 2,647.5.

Average Burden per Response: 2.5 Minutes.

Frequency: On Occasion, Weekly, and Daily.

Respondents are contractors. The CAFRS system collection of information manages qualification and training records for aviation personnel. The system provides the Army's senior level leadership visibility over aviation flight operations information to assist in resource, readiness, and personnel management decision-making.

Dated: February 17, 2016.
Aaron Siegel,
Alternate OSD Federal Register, Liaison Officer, Department of Defense.

[FR Doc. 2016-03671 Filed 2-22-16; 8:45 am]

BILLING CODE 5001-06-P